DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will hold a virtual meeting via web conference on Monday, November 8, 2021, from 11:00 a.m. to 5:00 p.m. Eastern Time. The primary purposes of this meeting are to: Update the Committee on the progress of the NCST investigation focused on the impacts of Hurricane Maria in Puerto Rico and the NCST investigation focused on the Champlain Towers South partial building collapse that occurred in Surfside, Florida; finalize the Committee's annual report to Congress; and provide an overview of event scoring and readiness of teams. The agenda may change to accommodate Committee business. The final agenda will be posted on the NIST website at https://www.nist.gov/topics/disaster-failure-studies/national-construction-safety-team-ncst/advisory-committee-meetings.

DATES: The NCST Advisory Committee will meet on Monday, November 8, 2021, from 11:00 a.m. to 5:00 p.m. Eastern Time.

ADDRESSES: The meeting will be held via web conference. For instructions on how to participate in the meeting, please see the SUPPLEMENTARY INFORMATION section of this notice.

FOR FURTHER INFORMATION CONTACT: Tanya Brown-Giammanco, Disaster and Failure Studies Program, Engineering Laboratory, NIST. Tanya Brown-Giammanco's email address is Tanya.Brown-Giammanco@nist.gov and her phone number is 240- 267-9504.

SUPPLEMENTARY INFORMATION: The Committee was established pursuant to Section 11 of the NCST Act (Pub. L. 107-231, codified at 15 U.S.C. 7301 et seq.). The Committee is currently composed of seven members, appointed by the Director of NIST, who were selected on the basis of established records of distinguished service in their professional community and their knowledge of issues affecting the National Construction Safety Teams. The Committee advises the Director of NIST on carrying out the NCST Act; reviews the procedures developed for conducting investigations; and reviews the reports issued documenting investigations. Background information on the NCST Act and information on the NCST Advisory Committee is available at https://www.nist.gov/topics/disaster-failure-studies/national-construction-safety-team-ncst/advisory-committee.

Pursuant to the Federal Advisory Committee Act, as amended, 5 U.S.C. app., notice is hereby given that the NCST Advisory Committee will meet on Monday, November 8, 2021, from 11:00 a.m. to 5:00 p.m. Eastern Time. The meeting will be open to the public and will be held via web conference. Interested members of the public will be able to participate in the meeting from remote locations. The primary purposes of this meeting are to: Update the Committee on the progress of the NCST investigation focused on the impacts of Hurricane Maria in Puerto Rico and the NCST investigation focused on the Champlain Towers South partial building collapse that occurred in Surfside, Florida; finalize the Committee's annual report to Congress; and provide an overview of event scoring and readiness of teams. The agenda may change to accommodate Committee business. The final agenda will be posted on the NIST website at https://www.nist.gov/topics/disaster-failure-studies/national-construction-safety-team-ncst/advisory-committee-meetings.

Individuals and representatives of organizations who would like to offer comments and suggestions related to items on the Committee's agenda for this meeting are invited to request a place on the agenda. Approximately thirty minutes will be reserved for public comments and speaking times will be assigned on a first-come, first-served basis. Public comments can be provided via email or by web conference attendance. The amount of time per speaker will be determined by the number of requests received. Questions from the public will not be considered during this period. All those wishing to speak must submit their request by email to the attention of Peter Gale at Peter.Gale@nist.gov by 5:00 p.m. Eastern Time, Wednesday, November 3, 2021. Speakers who wish to expand upon their oral statements, those who wish to speak but cannot be accommodated on the agenda, and those who are unable to attend are invited to submit written statements electronically by email to disaster@nist.gov.

Anyone wishing to attend this meeting via web conference must register by 5:00 p.m. Eastern Time, Wednesday, November 3, 2021, to attend. Please submit your full name, email address, and phone number to Peter Gale at Peter.Gale@nist.gov.

Alicia Chambers,
NIST Executive Secretariat.

[FR Doc. 2021-23198 Filed 10-22-21; 8:45 am]

BILLING CODE 3510-13-P